DEPARTMENT OF THE INTERIOR

Bureau of Indian Affairs

Draft Environmental Impact Statement for the Proposed KRoad Moapa Solar Generation Facility, Clark County, NV

AGENCY: Bureau of Indian Affairs, Interior.

ACTION: Notice of availability.

SUMMARY: This notice advises the public that the Bureau of Indian Affairs (BIA) as the lead Federal agency, with the Bureau of Land Management (BLM), the Environmental Protection Agency (EPA), the United States Army Corps of Engineers (USACE) and the Moapa Band of Paiute Indians (Tribe) as Cooperating Agencies, intends to file a Draft Environmental Impact Statement (DEIS) for the proposed KRoad Moapa Solar Generation Facility on the Moapa River Indian Reservation (Reservation) in Clark County, Nevada. This notice also announces the DEIS is now available for public review and that public meetings will be held to solicit comments on the draft document.

DATES: Written comments on the scope and implementation of the proposal must arrive by January 9, 2012. Notices will be published in local newspapers announcing the dates and times of the DEIS public meetings.

ADDRESSES: You may mail, email, hand carry or telefax written comments to Ms. Amy Heuslein, Regional Environmental Protection Officer, BIA Western Regional Office Branch of Environmental Quality Services, 2600 North Central Avenue, 4th Floor Mail Room, Phoenix, Arizona 85004-3008; fax (602) 379-3833; email: amy.heuslein@bia.gov. Notices will be published in local newspapers announcing the address locations of the DEIS public meetings.

FOR FURTHER INFORMATION CONTACT: Amy Heuslein or Garry Cantley, BIA Western Regional Office, Branch of Environmental Quality Services, 2600 North Central Avenue, Phoenix, Arizona 85004-3008, telephone (602) 379-6750.

SUPPLEMENTARY INFORMATION: The purpose of the Proposed Project is to construct a 350 megawatt (MW) solar generation facility and associated infrastructure on the Reservation, including the development of a 12 kV transmission line and water line along with obtaining a grant of easement on BLM lands for an up to 500 kV transmission line and access roads. The primary need for the Proposed Project is to provide land lease income, sustainable renewable resources, new jobs and other benefits for the Tribe by using solar resources from Reservation lands where exposure to levels of high solar radiation exists. A secondary need for the Proposed Project is to assist utilities in meeting their renewable energy goals by providing electricity generated from solar resources from tribal lands that may be efficiently connected to existing transmission lines in a manner that minimizes adverse site impacts.

The proposed Federal action is the BIA approval of a solar energy ground lease and agreements entered into by the Tribe with KRoad Moapa Solar LLC (KRoad), and approval of rights-of-way (ROW) and easements for KRoad to construct, operate and maintain an up-to 350 MW solar photovoltaic electricity generating facility on the Reservation. The proposed Federal action also includes the BLM approval of the up-to 500 kV transmission line and access road ROW's within an existing utility corridor, of which 5.0 miles are located on the Reservation and 0.5 miles are located on BLM land just south of the Reservation boundary. The BIA and BLM will use the EIS to make decisions on the land lease and ROW applications under their respective jurisdiction while the EPA and USACE may use the document to make decisions under their authorities. The Tribe may also use the EIS to make decisions under their Tribal Environmental Policy Ordinance and the U.S. Fish and Wildlife Service may use the EIS to support its decision under the Endangered Species Act.

Directions for Submitting Comments: Please include your name, return address and the caption “DEIS Comments, Proposed KRoad Moapa Solar Generation Facility” on the first page of your written comments.

Locations where the DEIS is Available for Review: The DEIS may be found on the following Web site: http://projects2.pirnie.com/MoapaSolar/. Hard copies of the document will be available at: BIA Western Regional Office, 2600 North Central Avenue, 12th Floor, Suite 210, Phoenix, Arizona; BIA Southern Paiute Agency, 180 North 200 East, Suite 111, St. George, Utah; and BLM Southern Nevada District Office, 4701 N. Torrey Pines Drive, Las Vegas, Nevada.

Public Comment Availability: Written comments, including names and addresses of respondents will be available for public review at the BIA mailing addresses shown in the ADDRESSES section during regular business hours, 8 a.m. to 4:30 p.m., Monday through Friday, except holidays. Before including your address, telephone number, email address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR parts 1500 through 1508) and Sec. 46.305 of the Department of the Interior regulations (43 CFR part 46), implementing the procedural requirements of the National Environmental Policy Act of 1969, as amended (42 U.S.C. 4371 et seq.), and is in the exercise of authority delegated to the Assistant Secretary—Indian Affairs by 209 DM 8.

Dated: November 16, 2011.
Larry Echo Hawk,
Assistant Secretary—Indian Affairs.

[FR Doc. 2011-30311 Filed 11-23-11; 8:45 am]

BILLING CODE 4310-W7-P